DEPARTMENT OF ENERGY

Federal Energy Regulatory Commission

[Docket Nos. CP17-56-000; CP17-57-000]

Texas Eastern Transmission, L.P, Brazoria Interconnector Gas Pipeline, LLC; Notice of Schedule for Environmental Review of the Stratton Ridge Expansion Project

On February 3, 2017, Texas Eastern Transmission, LP (Texas Eastern) and Brazoria Interconnector Gas Pipeline, LLC (BIG Pipeline) filed jointly an application in Docket Nos. CP17-56-000 and CP17-57-000 requesting a Certificate of Public Convenience and Necessity pursuant to Section 7(c) of the Natural Gas Act to construct and operate certain natural gas pipeline facilities. The proposed project is known as the Stratton Ridge Expansion Project (Project), and is designed to provide the capacity necessary for Texas Eastern to transport up to 322,000 dekatherms per day of natural gas on a firm basis from Texas Eastern's existing interconnections to a delivery point on the BIG Pipeline near Stratton Ridge, Texas.

On February 16, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—October 5, 2017

90-day Federal Authorization Decision Deadline—January 3, 2018

If a schedule change becomes necessary, additional notice will be provided so that the relevant agencies are kept informed of the Project's progress.

Project Description

The Stratton Ridge Project would consist of:

• A new Angleton Compressor Station, consisting of a 12,500 horsepower electric motor-driven compressor in Brazoria County, Texas;

• a new 0.5 mile, 30-inch-diameter pipeline lateral in Brazoria County, Texas to interconnect with the BIG intrastate pipeline system;

• installation of Clean Burn Equipment at the Mont Belvieu Compressor Station in Chambers County, Texas; and

• installation of minor auxiliary and support facilities (e.g. launcher and receiver modification, valves, piping modification) at existing Texas Eastern facilities in San Jacinto, Lavaca, Waller, and Shelby Counties, Texas.

Background

On March 24, 2017, the Commission issued a Notice of Intent to Prepare an Environmental Assessment for the Proposed Stratton Ridge Project and Request for Comments on Environmental Issues (NOI). The NOI was sent to affected landowners; federal, state, and local government agencies; elected officials; environmental and public interest groups; Native American tribes; other interested parties; and local libraries and newspapers. In response to the NOI, the Commission received comments from the Texas Parks and Wildlife Department, United States Environmental Protection Agency, and one local resident. The primary issues raised by the commenters are impacts on: land use; water supplies; migratory birds; threatened and endangered species; cultural resources; air quality; and environmental justice.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-56 and CP17-57), and follow the instructions.

For assistance with access to eLibrary, the helpline can be reached at (866) 208-3676, TTY (202) 502-8659, or at FERCOnlineSupport@ferc.gov. The eLibrary link on the FERC Web site also provides access to the texts of formal documents issued by the Commission, such as orders, notices, and rule makings.

Dated: August 4, 2017.
Nathaniel J. Davis, Sr.,
Deputy Secretary.

[FR Doc. 2017-16879 Filed 8-9-17; 8:45 am]

BILLING CODE 6717-01-P